INTERNATIONAL TRADE COMMISSION

[Investigation No. 731-TA-679 (Fifth Review)]

Stainless Steel Bar From India

Determination

On the basis of the record ¹ developed in the subject five-year review, the United States International Trade Commission (“Commission”) determines, pursuant to the Tariff Act of 1930 (“the Act”), that revocation of the antidumping duty order on stainless steel bar from India would be likely to lead to continuation or recurrence of material injury to an industry in the United States within a reasonably foreseeable time.

¹ The record is defined in § 207.2(f) of the Commission's Rules of Practice and Procedure (19 CFR 207.2(f)).

Background

The Commission instituted this review on September 1, 2023 (88 FR 60486) and determined on December 5, 2023 that it would conduct an expedited review (89 FR 8441, February 7, 2024).

The Commission made this determination pursuant to section 751(c) of the Act (19 U.S.C. 1675(c)). It completed and filed its determination in this review on February 23, 2024. The views of the Commission are contained in USITC Publication 5496 (February 2024), entitled Stainless Steel Bar from India: Investigation No. 731-TA-679 (Fifth Review).

By order of the Commission.
Issued: February 23, 2024.
Lisa Barton,
Secretary to the Commission.

[FR Doc. 2024-04128 Filed 2-27-24; 8:45 am]

BILLING CODE 7020-02-P